DEPARTMENT OF COMMERCE

Patent and Trademark Office

[Docket No.: PTO-C-2022-0039]

Trademarks for Humanity Awards Competition Program

AGENCY: United States Patent and Trademark Office, Department of Commerce.

ACTION: Notice.

SUMMARY: Pursuant to its statutory authority to conduct intellectual property programs, the United States Patent and Trademark Office (USPTO or Office) is launching a pilot program to promote and incentivize brand owners who offer products and services that help address humanitarian issues utilizing a federally registered trademark. The pilot program will be conducted as an awards competition. For the inaugural program, the humanitarian theme will be the environment. Participating trademark owners will submit program applications describing how the provision of their goods or services, in connection with a trademark registered by the USPTO, has addressed a humanitarian environmental problem impacting people or the planet.

DATES: Applications will be accepted from April 11, 2023 through July 14, 2023, or until 200 applications are received, whichever occurs first.

ADDRESSES: Applications must be submitted electronically via an online application portal, which can be accessed from the USPTO's Trademarks for Humanity web page at https://www.uspto.gov/ip-policy/trademarks-humanity-awards-program.

FOR FURTHER INFORMATION CONTACT: Anna Manville, Attorney-Advisor, USPTO, anna.manville@uspto.gov, 571-272-9300; or Branden Ritchie, Senior Level Attorney, USPTO, branden.ritchie@uspto.gov, 571-272-9300.

SUPPLEMENTARY INFORMATION: In 2012, the USPTO announced a pilot program to recognize humanitarian uses of patented and patent-pending technology. See Humanitarian Awards Pilot Program, 77 FR 6544 (February 8, 2012). Based on the success of that program, the USPTO is announcing a pilot awards program to promote and incentivize the use of trademarks in connection with the provision of goods and services that address humanitarian issues. The USPTO will review the results of this pilot program to determine whether to continue or modify the program.

Eligibility: The competition is open to any entity or person who:

• owns a mark that is the subject of a live federal trademark registration issued by the USPTO; and

• is using the mark in U.S. commerce on or in connection with the goods and/or services specified in the federal registration.

Eligible U.S. registrations may be for trademarks, service marks, certification marks, collective marks, or collective membership marks.

Competition Criteria: Applications must describe how applicants have addressed a “humanitarian, environmental problem,” which is an environmental challenge that impacts the welfare of people or the planet. Examples of humanitarian, environmental problems include: air, land, and water pollution; greenhouse gas emissions; climate change; deforestation; water shortages; industrial and household waste; and the need for renewable energy solutions, among others.

Applicants must describe how the provision of their goods and/or services in connection with their registered trademark(s) helps to address a humanitarian, environmental problem or problems. For example, an applicant may be providing products and/or services that use environmentally-friendly materials/practices or that relate to renewable energy, green technology, water purification, reforestation, capturing carbon emissions, or pollution reduction solutions.

Applicants are encouraged to think broadly regarding the connection between the environment and their efforts. For example, an applicant may: utilize repurposed or recycled materials to produce or package their products; license renewable energy solutions to others; or donate its profits toward efforts to address humanitarian, environmental problems. Other examples could include a certification mark owner's efforts to promote the authorized use of its mark by businesses that contribute toward resolving a humanitarian, environmental problem, or a non-profit organization's educational and training services to encourage best practices surrounding a humanitarian, environmental problem. The focus of the applicant's description should be on demonstrable, real-world contributions toward a cleaner and healthier environment.

Judges will evaluate submitted applications based on whether and to what extent they meet the following four criteria:

(i) Subject Matter—the provision of the applicant's goods and/or services in connection with a mark registered by the USPTO addresses a humanitarian, environmental problem;

(ii) Impact—the provision of the applicant's goods and/or services in connection with a mark registered by the USPTO has made a meaningful impact in addressing a humanitarian, environmental problem;

(iii) Creative Solution—the manner by which the applicant addresses a humanitarian, environmental problem through the provision of its goods and/or services in connection with a mark registered by the USPTO represents a creative, new, or improved approach or solution; and

(iv) Character of the Mark—the applicant's registered mark used on or in connection with its goods and/or services:

• Creatively conveys the importance of the environment; the need to address a humanitarian, environmental problem, or the manner in which the applicant's particular goods and/or services, or the provision thereof, address a humanitarian, environmental problem; or

• Has become recognized through its use as being associated with addressing a humanitarian, environmental problem.

Selection Factors: In addition to the competition criteria, a number of selection factors will be considered in choosing award recipients. Unlike judging criteria, selection factors are not items that applicants address in their applications. Rather, they are guiding principles for administering the competition.

While a live U.S. trademark registration is required to be eligible for the program, the program will be geographically neutral, meaning the impact resulting from applicant's efforts can be anywhere in the world.

Diversity with respect to contribution toward addressing humanitarian environmental problems will also factor into selections. Part of the program's mission is to showcase the numerous ways in which trademark owners contribute to humanitarian efforts. No single contribution model can address every humanitarian, environmental problem. Selected awardees should reflect a diverse range of: products and services; organizational structures; sizes (small, medium, and large entities); methods of contribution; and specific areas of focus within the broad humanitarian, environmental theme.

Application Process: Applications for the 2023 Trademarks for Humanity awards competition will be accepted from April 11, 2023 to July 14, 2023, or until 200 applications are received, whichever occurs first. Applications must be submitted electronically via an online application portal, which can be accessed from the USPTO's Trademarks for Humanity web page at https://www.uspto.gov/ip-policy/trademarks-humanity-awards-program. The application portal will feature an interactive electronic application form that applicants will use to enter application information and upload any supporting materials they wish to submit. Submitted applications will be publicly available on the application portal after being screened for inappropriate material. Submissions containing incomplete or inappropriate material will not be considered.

Applications will contain a required core section and an optional supplementary section. In the core section, applicants must describe how their efforts meet the defined competition criteria, within a strict seven thousand-character limit.

In the optional supplementary section, applicants may provide additional supporting materials (e.g., product/service brochures, advertising materials, published articles, third-party testimonials). Judges will review the core section of every application, and, time permitting, will also review materials submitted in the supplementary section.

This program involves information collection requirements which are subject to review by the Office of Management and Budget (OMB) under the Paperwork Reduction Act of 1995 (44 U.S.C. 3501 et seq.). The collection of information involved in this program has been reviewed and approved by OMB under control number 0651-0066.

Notwithstanding any other provision of law, no person is required to respond to, nor shall a person be subject to a penalty for failure to comply with, a collection of information subject to the requirements of the Paperwork Reduction Act unless that collection of information has a currently valid OMB control number.

Judging Process: After the application period ends, independent judges from outside the USPTO will review, score, and return the applications and their evaluations to the USPTO. Judges will evaluate applications based on the judging criteria and selection factors described above. Each application will be reviewed by multiple judges separately, and each judge will review multiple applications. To encourage fair, open, and impartial evaluations, judges will perform their reviews independently, and the reviews will not be released to the public unless release is required by law. After awards have been made, however, applicants may request from the USPTO a copy of the judges' evaluations for their application with the judges' names redacted. Such copies will be sent to either the address on file with the application or another address verified as belonging to the applicant.

After the USPTO receives the scored applications from the judges, the USPTO will then forward top-scoring applications to separate judges from participating federal agencies to recommend award recipients. The goal is to complete this recommendation process within 90 days of the close of the application period.

After receiving recommendations from these judges, final decisions regarding award recipients will be made at the discretion of the Director of the USPTO. Final results may not be challenged for relief before the USPTO.

The actual number of selected award recipients will depend on the number and quality of submissions. Once final decisions regarding award recipients have been made, the USPTO will notify the awardees and schedule a public awards ceremony. The USPTO will attempt to notify awardees four weeks before the ceremony date if circumstances permit.

Selection of Judges: Judges will be selected by the USPTO. Candidates with the following qualifications will be preferred:

• Recognized subject matter expertise in trademarks, economics, business, law, public policy, or a related field;

• Demonstrated understanding of trademark commercialization, branding, and/or marketing;

• Demonstrated knowledge of humanitarian issues (specifically of humanitarian, environmental issues for the 2023 cycle), including the challenges presented by such issues; and

• Experience analyzing the effectiveness of efforts to address humanitarian issues.

Judges will be chosen to minimize conflicts of interest. A conflict of interest occurs when a judge: (a) has significant personal or financial interests in, or is an employee, officer, director, or agent of, any applicant participating in the competition; or (b) has a significant familial or financial relationship with an applicant who is participating. When conflicts of interest arise, conflicted judges must recuse themselves from evaluating the affected applications.

Awards: Winners of the 2023 competition will receive recognition for their humanitarian efforts at a public awards ceremony with the Director of the USPTO and/or other executive branch official(s) and will be featured on the USPTO's website.

Katherine K. Vidal,
Secretary of Commerce for Intellectual Property and Director of the United States Patent and Trademark Office.

[FR Doc. 2023-07125 Filed 4-10-23; 8:45 am]

BILLING CODE 3510-16-P